DEPARTMENT OF ENERGY

Federal Energy Regulatory Commission

[Project No. 14994-000]

Pumped Hydro Storage LLC; Notice of Surrender of Preliminary Permit

Take notice that Pumped Hydro Storage LLC, permittee for the proposed Little Colorado River Pumped Storage Project, has requested that its preliminary permit be terminated. The permit was issued on May 21, 2020, and would have expired on April 30, 2023.¹ The project would have been located on the Little Colorado River in Coconino County, Arizona.

¹ 171 FERC ¶ 61,138 (2020).

The preliminary permit for Project No. 14994 will remain in effect until the close of business, January 11, 2023. But, if the Commission is closed on this day, then the permit remains in effect until the close of business on the next day in which the Commission is open.² New applications for this site may not be submitted until after the permit surrender is effective.

² 18 CFR 385.2007(a)(2) (2021).

Dated: December 12, 2022.
Kimberly D. Bose,
Secretary.

[FR Doc. 2022-27313 Filed 12-15-22; 8:45 am]

BILLING CODE 6717-01-P